DEPARTMENT OF AGRICULTURE

Forest Service

Curry and Hill Private Property Access, Medicine Bow-Routt National Forests, Jackson County, CO

AGENCY: USDA, Forest Service.

ACTION: Cancellation of Notice of Intent to prepare an Environmental Impact Statement.

SUMMARY: The Department of Agriculture, Forest Service is issuing this notice to advise the public that we are canceling the Notice of Intent (NOI) to prepare an Environmental Impact Statement (EIS) to assess and disclose the environmental effects of issuing a road easement to allow motorized access to private property surrounding Matheson Reservoir.

FOR FURTHER INFORMATION CONTACT: Tom Florich, Lands Program Manager, Medicine Bow-Routt N.F.'s and Thunder Basin N.G., 2468 Jackson Street, Laramie, WY 82070, Phone (307) 745-2435, Fax (307) 745-2398.

SUPPLEMENTARY INFORMATION: Matheson Reservoir and the Curry and Hill private property are located in Township 4 North, Range 79 West, Section 19 on the Parks Ranger District of the Routt National Forest in Colorado. The Forest Service is canceling the Notice of Intent that was published in the Federal Register Vol. 68, No. 163, Friday, August 22, 2003 (pages 50746-50747).

Dated: December 2, 2005.
Diane M. Chung,
Deputy Forest Supervisor, Medicine Bow-Routt National Forests.

[FR Doc. 05-24483 Filed 12-23-05; 8:45 am]

BILLING CODE 3410-GM-M